DEPARTMENT OF ENERGY

Federal Energy Regulatory Commission

[Project No. 15247-000]

PacifiCorp; Notice of Preliminary Permit Application Accepted for Filing and Soliciting Comments, Motions To Intervene, and Competing Applications

On October 13, 2021, PacifiCorp filed an application for a preliminary permit, pursuant to section 4(f) of the Federal Power Act, proposing to study the feasibility of the South Fork Pumped Storage Project (South Fork Project or project) to be located near Lake Viva Naughton, Lincoln County, Wyoming. The sole purpose of a preliminary permit, if issued, is to grant the permit holder priority to file a license application during the permit term. A preliminary permit does not authorize the permit holder to perform any land-disturbing activities or otherwise enter upon lands or waters owned by others without the owners' express permission.

Two alternatives are being considered for the South Fork Project. Alternative 1 would consist of the following: (1) An upper reservoir approximately 3.5 miles east of Lake Viva Naughton with a surface area of 210 acres and a storage volume of approximately 3,348 acre-feet created by a 1,870-foot-long, 340-foot-high embankment dam; (2) a new intake/outlet on Lake Viva Naughton, which will serve as the lower reservoir; (3) a 4.2-mile-long steel penstock with a diameter of 23-feet connecting the upper reservoir with the powerhouse/pump station; (4) a 50-foot-long, 150-foot-wide concrete powerhouse/pump station located on the eastern shoreline of Lake Viva Naughton containing three 167-megawatt generating/pumping units; (5) a 4.4-mile, 345-kilovolt transmission line and new substation interconnecting to PacifiCorp's Jim Bridger-Populus #2 transmission line; and (6) appurtenant facilities.

Alternative 2 would consist of the same facilities described in alternative 1 except: (1) The upper reservoir would have a surface area of 85 acres and a storage volume of approximately 3,604 acre-feet created by a 1,035-foot-long, 310-foot-high embankment dam; (2) the upper reservoir would connect to the powerhouse/pump station by a 3.8-mile-long, 23-foot-diameter steel penstock; (3) the transmission line would be 2.2 miles in length connecting to a new substation at same transmission line.

The estimated annual generation of the South Fork Project would be 1,460 gigawatt-hours.

Applicant Contact: Tim Hemstreet, Managing Director, Renewable Energy Development, PacifiCorp, 825 NE Multnomah, Suite 1800, Portland, OR 97232; email: Tim.Hemstreet@pacificorp.com; phone: (503) 813-6170.

FERC Contact: Kristen Sinclair; email: kristen.sinclair@ferc.gov; phone: (202) 502-6587.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15247-000.

More information about this project, including a copy of the application, can be viewed or printed on the “eLibrary” link of Commission's website at http://www.ferc.gov/docs-filing/elibrary.asp. Enter the docket number (P-15247) in the docket number field to access the document. For assistance, contact FERC Online Support.

Dated: February 7, 2022.
Kimberly D. Bose,
Secretary.

[FR Doc. 2022-02957 Filed 2-10-22; 8:45 am]

BILLING CODE 6717-01-P